DEPARTMENT OF TRANSPORTATION

Federal Railroad Administration

49 CFR Parts 229, 232, and 238

[Docket No. FRA-2006-26175, Notice No. 2]

RIN 2130-AB84

Electronically Controlled Pneumatic Brake Systems

AGENCY: Federal Railroad Administration (FRA), Department of Transportation (DOT).

ACTION: Notice of public hearings and technical conference.

SUMMARY: By notice of proposed rulemaking (NPRM) published on September 4, 2007 (71 FR 50820), FRA proposed revisions to the regulations governing the power braking systems and equipment used in freight and other non-passenger railroad train operations. The proposed revisions are intended to permit and promote the implementation of electronically controlled pneumatic (ECP) brake systems in a safe and effective manner. In that proposed rule, FRA stated that it would hold an oral public hearing on a date to be announced in a forthcoming notice, at which the Administrator or his delegated representative may preside. This document announces public hearings and a technical roundtable discussion.

DATES: (1) Public Hearings: Two public hearings will be held on the dates and at the locations listed below to provide interested parties the opportunity to comment on the proposed revisions contained in the NPRM. A technical roundtable will be held in conjunction with the second hearing. The dates of the public hearings are as follows:

Thursday, October 4, 2007, at 9:30 a.m. in Washington, DC.

Friday, October 19, 2007, at 8:30 a.m. in the Chicago, Illinois area.

(2) Technical Roundtable: A technical roundtable will be held on Friday, October 19, 2007, directly following the public hearing scheduled for that day. The technical roundtable is intended to provide interested parties the opportunity to comment on the proposed revisions contained in the NPRM and to provide interested parties the ability to specifically discuss various technical issues related to the implementation and operation of ECP brake systems.

ADDRESSES: (1) Public Hearings: Hearings to provide interested parties the opportunity to comment on the proposed revisions contained in the NPRM will be held at these locations:

Washington, DC: Washington Plaza Hotel, 10 Thomas Circle, NW., Washington, DC 20005.

Chicago, IL area: Crowne Plaza Chicago O'Hare, 5440 North River Road, Rosemont, IL 60018.

(2) Technical Roundtable: A technical conference will be conducted in the Chicago, Illinois at: Crowne Plaza Chicago O'Hare, 5440 North River Road, Rosemont, IL 60018. See SUPPLEMENTARY INFORMATION section for details.

(3) Docket Clerk: Written notification should identify the docket number and must be submitted to the FRA Docket Clerk, Office of Chief Counsel, Federal Railroad Administration, 1120 Vermont Avenue, NW., RCC-10, Stop 10, Washington, DC 20590 or faxed to (202) 493-6068.

FOR FURTHER INFORMATION, CONTACT: James Wilson, Office of Safety Assurance and Compliance, Motive Power and Equipment Division, RRS-14, Mail Stop 25, Federal Railroad Administration, 1120 Vermont Avenue, NW., Washington, DC 20590 (telephone 202-493-6259); or Jason Schlosberg, Trial Attorney, Office of Chief Counsel, Mail Stop 10, Federal Railroad Administration, 1120 Vermont Avenue, NW., Washington, DC 20590 (telephone 202-493-6032).

SUPPLEMENTARY INFORMATION: Interested parties are invited to present oral statements and proffer evidence at the hearings. The hearings will be informal and will be conducted by a representative designated by FRA in accordance with FRA's Rules of Practice (49 CFR 211.25). The hearings will be non-adversarial proceedings; therefore, there will be no cross examination of persons presenting statements or proffering evidence. An FRA representative will make an opening statement outlining the scope of the hearing. After all initial statements have been completed, those persons wishing to make a brief rebuttal will be given the opportunity to do so in the same order in which the initial statements were made. Additional procedures, as necessary for the conduct of the hearing, will be announced at the hearing.

The purpose of the hearings is to receive oral comments regarding the specific provisions contained in the proposed rule and to receive evidence and to develop findings to determine whether FRA should invoke its discretionary authority under 49 U.S.C. 20306 to exempt application of section 20303 as it applies to freight trains and freight cars operating with ECP brake systems. Section 20303 requires operators to transport rail vehicles with defective or insecure equipment “from the place at which the defect or insecurity was first discovered to the nearest available place at which the repairs can be made” to avoid incurring civil penalties related to such movement. FRA would be authorized to grant relief from section 20303 only if it were to make findings required by section 20306. That section is reproduced here for ready reference:

Section 20306. Exemption for Technological Improvements

(a) General.—Subject to subsection (b) of this section, the Secretary of Transportation may exempt from the requirements of this chapter railroad equipment or equipment that will be operated on rails, when those requirements preclude the development or implementation of more efficient railroad transportation equipment or other transportation innovations under existing law.

(b) Conditions for exemption.—The Secretary may grant an exemption under subsection (a) of this section only on the basis of—

(1) findings based on evidence developed at a hearing; or

(2) an agreement between national railroad labor representatives and the developer of the new equipment or technology.

To permit and encourage implementation of ECP brake system technology without hindering safety, FRA proposes to invoke its discretionary authority under 49 U.S.C. 20306 to exempt ECP brake-equipped trains and equipment from the specific statutory requirements contained in 49 U.S.C. 20303.

The technical roundtable is intended to provide interested parties an informal forum to discuss issues and concerns related to the implementation and operation of trains and equipment utilizing ECP brake system technology. The roundtable discussion may address specific technical issues that might not be addressed in the oral comments presented at the public hearings. This format will provide a more open, freeform exchange of ideas and views related to the technology. The procedures for the technical roundtable will be announced by the FRA representatives conducting the discussions. A transcript of the discussions will be made part of the public docket in this proceeding.

Any person wishing to participate in either the public hearings or the technical conference should notify the Docket Clerk by mail or at the address or fax number provided in the ADDRESSES section at least five working days prior to the date of the hearing or technical roundtable discussion and submit three copies of the oral statement that he or she intends to make at the proceeding. The notification should identify the party the person represents, and the particular subject(s) the person plans to address. The notification should also provide the Docket Clerk with the participant's mailing address and other contact information. FRA reserves the right to limit participation in the hearings of persons who fail to provide such notification.

Issued in Washington, DC, on September 7, 2007.
S. Mark Lindsey,
Chief Counsel, Federal Railroad Administration.

[FR Doc. E7-18169 Filed 9-13-07; 8:45 am]

BILLING CODE 4910-06-P